DEPARTMENT OF EDUCATION

Equity and Excellence Commission

AGENCY: U.S. Department of Education.

ACTION: Notice; Advisory Committee Meeting Cancellation.

SUMMARY: The Department of Education gives notice of the cancellation of the Meeting of the Equity and Excellence Commission scheduled for March 29, 2012 and announced in the Federal Register on March 14, 2012 in Vol. 77 No. 50.

The meeting will be rescheduled for a date to be announced in the future.

FOR FURTHER INFORMATION CONTACT: Jim Eichner, Designated Federal Official, Equity and Excellence Commission, U.S. Department of Education, 400 Maryland Avenue SW., Washington, DC 20202. Email: equitycommission@ed.gov. Telephone: (202) 453-5945.

Sandra Battle,
Deputy Assistant Secretary for Enforcement, Office for Civil Rights.

[FR Doc. 2012-7376 Filed 3-27-12; 8:45 am]

BILLING CODE 4000-01-P